DEPARTMENT OF COMMERCE

National Oceanic and Atmospheric Administration

50 CFR Part 660

[Docket No. 031216314-3314-01; I.D. 041904C]

Fisheries Off West Coast States and in the Western Pacific; Pacific Coast Groundfish Fishery; Annual Specifications and Management Measures; Inseason Adjustments; Corrections

AGENCY: National Marine Fisheries Service (NMFS), National Oceanic and Atmospheric Administration (NOAA), Commerce.

ACTION: Inseason adjustments to management measures; corrections; request for comments.

SUMMARY: NMFS announces changes to the recreational fishery, and to the commercial fishery's trawl rockfish conservation areas (RCAs) for the Pacific Coast groundfish fishery. These actions, which are authorized by the Pacific Coast Groundfish Fishery Management Plan (FMP), will allow fisheries to access more abundant groundfish stocks while protecting overfished and depleted stocks. This action also contains corrections and revisions to the 2004 management measures.

DATES: Effective 0001 hours (local time) April 29, 2004, until the 2005-06 annual specifications and management measures are effective; unless modified, superseded, or rescinded through a publication in the Federal Register. Comments on this rule will be accepted through June 1, 2004.

ADDRESSES: You may submit comments, identified by [031216314-01 and/or 0648-AR54], by any of the following methods:

• E-mail: GroundfishInseason#1.nwr@noaa.gov: identified by [031216314-01 and/or 0648-AR54] in the subject line of the message.

•Federal eRulemaking Portal: http://www.regulations.gov. Follow the instructions for submitting comments.

• Fax: 206-526-6736

• Mail: D. Robert Lohn, Administrator, Northwest Region, NMFS, 7600 Sand Point Way NE, Seattle, WA 98115-0070; or Rod McInnis, Acting Administrator, Southwest Region, NMFS, 501 West Ocean Blvd, Suite 4200, Long Beach, CA 90802-4213.

FOR FURTHER INFORMATION CONTACT: Jamie Goen (Northwest Region, NMFS), phone: 206-526-6150; fax: 206-526-6736; and e-mail: jamie.goen@noaa.gov.

SUPPLEMENTARY INFORMATION:

Electronic Access

This Federal Register document is available on the Government Printing Office's website at: www.gpoaccess.gov/fr/index.html.

Background information and documents are available at the NMFS Northwest Region website at: www.nwr.noaa.gov/1sustfsh/gdfsh01.htm and at the Pacific Fishery Management Council's website at: www.pcouncil.org.

Background

The Pacific Coast Groundfish FMP and its implementing regulations at 50 CFR part 660, subpart G, regulate fishing for over 80 species of groundfish off the coasts of Washington, Oregon, and California. Groundfish specifications and management measures are developed by the Pacific Fishery Management Council (Pacific Council), and are implemented by NMFS. The specifications and management measures for the 2004 fishing year (January 1-December 31, 2004) were initially published in the Federal Register as an emergency rule for January 1-February 29, 2004 (69 FR 1322, January 8, 2004) and as a proposed rule for March 1-December 31, 2004 (69 FR 1380, January 8, 2004). The emergency rule was amended at 69 FR 4084, January 28, 2004, and the final rule for March 1-December 31, 2004 was published in the Federal Register on March 9, 2004 (69 FR 11064).

The following changes to current groundfish management measures were recommended by the Pacific Council, in consultation with Pacific Coast Treaty Indian Tribes and the states of Washington, Oregon, and California, at its March 8-12, 2004, meeting in Tacoma, WA. Pacific Coast groundfish landings will be monitored throughout the year, and further adjustments to trip limits or management measures will be made as necessary to allow achievement of, or to avoid exceeding the 2004 optimum yields (OYs).

California's Recreational Fishery for the California Rockfish, Cabezon, Greenling Complex (RCG Complex)

California's recreational harvest exceeded California's recreational set asides for some species in 2003, including minor nearshore rockfish, bocaccio, canary rockfish, yelloweye rockfish, and lingcod. In order to reduce the recreational catch of rockfish in 2004, the California Department of Fish and Game (CDFG) proposed to their California Fish and Game Commission (California Commission) at their March 4-5, 2004 meeting to: (1) reduce the RCG Complex bag limit north of 40°10′ N. lat. to match the more restrictive RCG Complex bag limit south of 40°10′ N. lat., and (2) remove the shallow nearshore rockfish sub-bag limit within the RCG Complex bag limit south of 40°10′ N. lat. The shallow nearshore sub-bag limit implemented in 2003 did not function as anticipated and instead resulted in an increase in discard of nearshore rockfish, especially gopher rockfish. Removing this sub-bag limit is, therefore, projected to reduce rockfish mortality. The California Commission adopted these changes and CDFG recommended to the Pacific Council at their March 7-12, 2004, meeting that these changes also be made for Federal waters.

Based on CDFG and the California Commission's request, the Pacific Council recommended, and NMFS is implementing, a reduction in the RCG Complex bag limit north of 40°10′ N. lat. from 10 rockfish per day, of which no more than 2 may be bocaccio, 10 cabezon per day, 10 kelp greenling and 10 rock greenling per day to 10 RCG Complex fish per day (not including canary rockfish, yelloweye rockfish and cowcod, which are prohibited), of which up to 10 may be rockfish (no more than 1 of which may be bocaccio), no more than two fish per day may be greenling (kelp and/or other greenlings) and no more than three fish per day may be cabezon. Also based on CDFG and the California Commission's request, the Pacific Council recommended and NMFS is implementing removal of the shallow nearshore rockfish 2 fish sub bag limit from the RCG Complex bag limits south of 40°10′ N. lat.

California's Recreational Fishery for Lingcod Closed Nov-Dec

Based on a CDFG analysis presented at the Pacific Council's March meeting, the Pacific Council recommended that NMFS implement the following measures for California's recreational lingcod fishery: Increase the minimum size limit from 24 inches (61 cm) to 30 inches (77 cm), decrease the bag limit from 2 fish to 1 fish, and prohibit retention of lingcod off California during November and December 2004.

Prior to the March Pacific Council meeting, CDFG and NMFS jointly developed lingcod management measures that would keep the harvest of lingcod in the recreational fishery within CDFG's 2004 recreational catch projection of 346.8 mt. Because lingcod harvest exceeded the ABC in both 2002 and 2003, there was concern by NMFS that the 2004 management measures, as proposed for 2004, would not keep harvest within the 2004 catch projection for California's recreational fishery. On February 18, 2004, CDFG sent NMFS a letter with a proposal and supporting analysis to increase the lingcod size limit from 24 inches (61-cm) to 30 inches (77 cm) and to decrease the bag limit from 2 fish to 1 fish per day beginning April 1, 2004. The CDFG analysis was based on the best available fisheries data at that time and showed that California's recreational lingcod take should stay within the 346.8 mt catch projection. Under a 30-inch (77-cm), 1 fish bag limit, the anticipated catch was expected to be 291 mt, leaving a 55.8 mt buffer. NMFS believed this buffer was reasonable, as it allowed up to a 13 percent hooking mortality for discarded catch. A 1998 CDFG study (Albin & Karpov in “Marine Fisheries Review”) estimated lingcod hooking mortality with rod-and-reel at 4.3 percent.

At the March Pacific Council meeting, CDFG identified an error in the base catch data used in their projections for the February 18, 2004 analysis submitted to NMFS. Previously the base catch data used an average for 2002 and 2003 Wave 6 (November-December) catch data from the Marine Recreational Fisheries Statistical Survey. However, Wave 6 was closed entirely in 2002 and for part of 2003, thereby underestimating the average catch for 2002 and 2003 used for 2004 catch projections. At the March Council meeting, catch projections were revised using a proxy for the 2002 and 2003 Wave 6 data based on an average of Wave 1 (January-February) and Wave 5 (September-October) when the fishery was open. The base catch data used to recalculate the projections at the March Council meeting (Exhibit E.4.b, Supplemental CDFG Report) showed that a 30-inch (77-cm), 1 fish bag limit, while remaining within the original catch projection, provided less of a buffer (only 13 mt buffer). Therefore, CDFG proposed alternatives to keep the 2004 recreational lingcod take below the original catch projection and to increase the buffer. These alternatives included prohibiting the retention of lingcod during November through December, 2004. With a closure added during November through December, the buffer increases to 59 mt with an estimated 2004 catch of 288 mt. (NOTE: CDFG presented the wrong table to the Pacific Council under Option 2 of Exhibit E.4.b, Supplemental CDFG Report. The numbers projected for the November through December closure are from a new table provided to NMFS in an email on March 30, 2004, showing the correct analysis results and incorporating a request from the Pacific Council to include a 5 percent assumed discard mortality rate (the rate preliminarily recommended by the Pacific Council's Groundfish Management Team (GMT) at the March meeting).

NMFS had previously implemented the 30-inch minimum size limit (77-cm), 21-inch (54-cm) minimum filet size limit (increased from 16-inches (41-cm)), and the 1-fish bag limit for lingcod in the final rule (69 FR 11064, March 9, 2004). These management measures will become effective April 1, 2004. Based on the CDFG analysis, the Pacific Council recommended that NMFS also implement a November through December prohibition on the retention of lingcod through this action.

Trawl RCA Revised to Close Cordell Banks

NMFS received a request from CDFG during the comment period on the groundfish specifications and management measures proposed rule (69 FR 1380, January 8, 2004) to add a closure at Cordell Banks for both the commercial and recreational fisheries to reduce the take of overfished species. The Cordell Banks area has been identified in previous GMT meetings as an area with high catch of canary and other overfished species. The closure for the recreational fishery was implemented through the final rule (69 FR 11064, March 9, 2004). However, for the commercial fishery, NMFS and CDFG requested that the Pacific Council consider whether to include the Cordell Banks in the RCA and which species would be affected by this closure. For the fixed gear fleet, the Cordell Banks is closed because it lies within the non-trawl RCA boundaries for 2004. However, for the trawl fleet, the Cordell Banks is located shoreward of the trawl RCA throughout 2004. After considering this issue, the Pacific Council recommended that the commercial closure should apply to both the fixed gear and trawl fleets and should be closed to fishing for all species of Federal groundfish, similar to the RCAs. The Pacific Council recommended and NMFS is implementing a commercial closure of Cordell Banks by adjusting the 75-fm (137- m) and 100-fm (183-m) trawl RCA boundaries to incorporate the Cordell Banks into the trawl RCA.

Corrections and Revisions

The following corrections and revisions are being made to the 2004 management measures.

The recreational restrictions for the Cowcod Conservation Areas (CCAs) are corrected for waters shoreward of the 20 fm (37 m) depth contour such that retention of rockfish in this area is limited to minor nearshore rockfish. The CCAs are being clarified to eliminate a discrepancy between Federal and State recreational CCA restrictions. Federal CCA restrictions for the recreational fishery read, “Fishing for all groundfish, except sanddabs, will be prohibited in the CCA, except that recreational fishing for sanddabs, RCG complex, lingcod and California scorpionfish will be permitted shoreward of 20 fm in the CCA.” State CCA restrictions for the recreational fishery read, “Recreational fishing for all groundfish, except rockfish, lingcod, and associated species limited to cabezon, greenlings of the genus Hexogrammos, California scorpionfish, California sheephead and ocean whitefish, is permitted in the CCA. Recreational fishing for all groundfish species is permitted shoreward of 20 fm in the CCA.” Therefore, State recreational CCA restrictions are less restrictive than Federal recreational CCA restrictions. CDFG and NMFS brought this issue to the Pacific Council to get clarification on the Council's original intent with respect to the CCAs. The motion on CCAs from the November 2000 Council meeting, which first recommended the CCAs, stated that the CCAs would be closed, “except that the CCAs would be open to minor nearshore rockfish, cabezon and greenlings inside 20 fm.” CDFG commented that minor nearshore rockfish was specified to discourage any pressure on shelf rockfish, such as vermillion rockfish, near the 20-fm (37-m) boundary line. Targeting on shelf rockfish might increase incidental catch of cowcod. At the time of the motion, minor nearshore rockfish included California scorpionfish. California scorpionfish was separated from minor nearshore rockfish in Federal recreational management measures beginning in 2003. In 2002, lingcod was added to the list of species that could be retained shoreward of the 20-fm (37-m) depth contour within the CCAs. In 2003, recreational sanddab fishing was permitted in the CCAs and shoreward of 20-fm (37-m) in the CCAs.

Therefore, the Pacific Council recommended that both Federal and State recreational CCA restrictions should be corrected. The Federal recreational CCA restrictions are herein corrected to read, “Fishing for all groundfish, except sanddabs, will be prohibited in the CCA, except that recreational fishing for sanddabs, minor nearshore rockfish, cabezon, greenlings of the genus Hexogrammos, lingcod and California scorpionfish will be permitted shoreward of 20-fm (37-m) in the CCA.”

The recreational RCA language is revised to allow combined RCA and non-RCA fishing trips. However, fishing cannot occur within the RCA while in possession of fish that are prohibited in the RCA. If an angler intends to fish for groundfish and other non-groundfish species in the same fishing trip, the angler must first fish within the RCA for non-groundfish species (except that fishing for sanddabs is permitted) and then fish shoreward of the RCA for groundfish. For example, with this clarification, a vessel could fish for salmon within the RCA at the start of a trip provided no prohibited groundfish species were onboard, then complete the trip by fishing for groundfish shoreward of the RCA. After hearing concern and confusion from the recreational community, the Enforcement Consultants (EC), an advisory body to the Pacific Council, brought this issue forward at the Council's April meeting, asking the Council to clarify its intent. The EC pointed out that combined RCA and non-RCA fishing trips did not bring up the same enforcement concerns that arise from combined trips for the commercial fishery. For the commercial fishery, it is difficult to enforce combined trips because groundfish fishing opportunity is available shoreward and seaward of the RCA and because of lack of at-sea enforcement capabilities. For the recreational fishery, there is not an enforcement concern because there are more at-sea enforcement capabilities in the nearshore where recreational fisheries occur. Groundfish fishing is only permitted shoreward of the RCA. Therefore, the Pacific Council recommended that NMFS clarify the recreational RCA language to prohibit recreational anglers from fishing in the RCA while in possession of species prohibited within the RCA.

California's recreational fishery between 40°10′ N. lat. and 34°27′ N. lat. is corrected to add a depth restriction to fishing occurring during September 1-29, 2004. The CDFG, along with the Pacific Council's GMT, recommended at the Pacific Council's September 2003 meeting where final 2004 management measures were recommended, that the recreational fishery between 40°10′ N. lat. and 34°27′ N. lat. be subject to a recreational RCA at a boundary line approximating the 30-fm (55-m) depth contour for the September through October two-month cumulative limit period. Part of this closure was inadvertently left out of the emergency, proposed, and final rules for the 2004 specifications and management measures. Thus, the recreational RCA between 40°10′ N. lat. and 34°27′ N. lat. is herein corrected to add a closure at a boundary approximating the 30-fm (55-m) depth contour during September 1-29, 2004.

A reference to the trawl RCA boundaries is corrected in section IV.A., paragraph (17)(c)(i) to refer to paragraph (f) rather than paragraph (e).

Language describing the non-trawl RCA is revised to allow sanddab fishing within the RCA with the specified gear. As stated in the limited entry fixed gear and open access trip limit tables, Table 4 (South) and Table 5 (South), fishing for sanddabs is permitted in the non-trawl RCA when fishing with hook and line gear with no more than 12 hooks per line, using hooks no larger than “Number 2” hooks, which measure 11 mm (0.44 in) point to shank, and up to 1 lb (0.45 kg) of weight per line. However, under the general definitions and provisions, paragraph IV.A.(17)(d), describing the non-trawl RCA, there is no reference to an exception for fishing within the RCA for sanddabs. This inseason action clarifies that paragraph, adding the exception to allow fishing for sanddabs within the RCA with the appropriate gear.

The introductory paragraph describing the 30-fm (55-m) RCA boundary in section IV. A., paragraph (17)(f)(ii)(E) is corrected to read “30 fm” instead of “300 fm.”

Longitude coordinates for the 40-fm (73-m) and 50-fm (91-m) RCA boundaries in section IV. A., paragraph (17)(f)(iii) and (iv) are corrected to read “W. long.” instead of “N. lat.”

A latitude coordinate for the 60 fm (110 m) RCA boundary around the northern Channel Islands in section IV.A., paragraph (17)(f)(v)(A) line (13), is corrected to read “34°02.80′ N. lat.” instead of “34°28.00′ N. lat.”

Footnote 4 of the limited entry fixed gear trip limit table, Table 4 (South), is corrected to remove language stating that, “chilipepper rockfish is included in the trip limits for minor shelf rockfish.” In Table 4 (South), chilipepper rockfish has been pulled out of the minor shelf rockfish category and given it's own trip limit in 2004. The reference to chilipepper in footnote 4 is a remnant from past trip limit tables and is removed.

NMFS Actions

For the reasons stated herein, NMFS concurs with the Pacific Council's recommendations and hereby announces the following changes to the 2004 specifications and management measures (69 FR 11064, March 9, 2004), to read as follows:

1. In section IV., under A. General Definitions and Provisions, paragraph (17)(b) is corrected to read as follows:

* * * * *

(b) Cowcod Conservation Areas. The CCAs are two areas off the southern California coast intended to protect cowcod. The specific latitude and longitude coordinates of the Cowcod Conservation Areas (CCAs) are defined at § 660.304(c)(2). During January 1-December 31, commercial fishing is prohibited within the CCAs, except that commercial fishing for rockfish and lingcod is permitted shoreward of the 20-fm (37-m) depth contour. In general, during March 1-December 31, recreational fishing for all groundfish, except sanddabs, is prohibited within the CCAs. However, recreational fishing for the following species is permitted shoreward of the 20-fm (37-m) depth contour: minor nearshore rockfish, cabezon, kelp greenling, lingcod, California scorpionfish, and sanddabs. (Note: California State regulations also permit recreational fishing for all greenlings of the genus Hexogrammos shoreward of the 20-fm (37-m) depth contour in the CCAs.) It is unlawful to take and retain, possess, or land groundfish within the CCAs, except for species stated in this section, when those waters are open to fishing. Commercial fishing vessels may transit through the Western CCA with their gear stowed and groundfish on board only in a corridor through the Western CCA bounded on the north by the latitude line at 33°00′30″ N. lat., and bounded on the south by the latitude line at 32°59′30″ N. lat.

* * * * *

2. In section IV., under A. General Definitions and Provisions, paragraph (17)(c)(i) is corrected to read as follows:

* * * * *

(c) Trawl (Limited Entry and Open Access Exempted Trawl Gears) Rockfish Conservation Area.

(i) Trawl RCAs are intended to protect a complex of species, such as overfished shelf rockfish species, and have boundaries defined by specific latitude and longitude coordinates intended to approximate particular depth contours, such as 75 fm (137 m), 150 fm (274 m), and 200 fm (366 m). The trawl RCA is closed coastwide to limited entry groundfish trawl fishing, except for mid-water trawl vessels participating in the primary whiting season. The trawl RCA is also closed coastwide to open access exempted trawl fishing, except for pink shrimp trawling. Fishing with any trawl gear is prohibited within the trawl RCA coastwide, unless that vessel is participating in the primary whiting season with mid-water trawl gear, trawling with midwater gear for yellowtail or widow rockfish when that is permitted, or trawling for pink shrimp. Coastwide, it is unlawful to take and retain, possess, or land any species of fish taken with trawl gear within the trawl RCA, except as permitted for vessels participating in the primary whiting season with mid-water trawl gear or for vessels participating in the pink shrimp trawl fishery. Throughout the year, boundaries for the trawl RCA are provided in Table 3 of section IV.B. and in Table 5 of section IV.C. and may be modified by NMFS inseason pursuant to the requirements of the Administrative Procedure Act (APA). Trawl RCA boundaries are defined by specific latitude and longitude coordinates and are provided below at paragraph (f) of this section.

* * * * *

3. In section IV., under A. General Definitions and Provisions, paragraph (17)(d)(i) is revised to read as follows:

* * * * *

(d) Non-Trawl (Limited Entry Fixed Gear and Open Access Non-trawl Gears) Rockfish Conservation Area.

(i) Non-trawl RCAs are intended to protect a complex of species, such as overfished shelf rockfish species, and have boundaries defined by specific latitude and longitude coordinates intended to approximate particular depth contours, such as 27 fm (49 m), 100 fm (183 m), and 150 fm (274 m). The non-trawl RCA is closed to non-trawl gear (limited entry or open access longline and pot or trap, open access hook-and-line, pot or trap, gillnet, set net, trammel net and spear) fishing for groundfish, except that fishing for sanddabs is permitted within the non-trawl RCA with the gear specified in Table 4 (South) of section IV.B. and Table 5 (South) of section IV.C. Fishing for groundfish, except sanddabs, with non-trawl gear is prohibited within the non-trawl RCA. It is unlawful to take and retain, possess, or land groundfish (except sanddabs) taken with non-trawl gear within the non-trawl RCA. Limited entry fixed gear and open access non-trawl gear vessels may transit through the non-trawl RCA, with or without groundfish on board. These restrictions do not apply to vessels fishing for species other than groundfish with non-trawl gear, although non-trawl vessels on a fishing trip for species other than groundfish that occurs within the non-trawl RCA may not retain any groundfish taken on that trip. If a vessel fishes in the non-trawl RCA, it may not participate in any fishing on that trip that is prohibited by the restrictions that apply within the non-trawl RCA. For example, if a vessel participates in the salmon troll fishery within the RCA, the vessel cannot on the same trip participate in the sablefish fishery outside of the RCA. Throughout the year, boundaries for the non-trawl RCA are provided in Table 4 of section IV.B. and in Table 5 of section IV.C. and may be modified by NMFS inseason pursuant to the requirements of the APA. Non-trawl RCA boundaries are defined by specific latitude and longitude coordinates and are provided below at paragraph (f) of this section.

* * * * *

4. In section IV., under A. General Definitions and Provisions, paragraph (17)(e)(i) is revised to read as follows:

* * * * *

(e) Recreational Rockfish Conservation Area.

(i) Recreational RCAs are closed areas intended to protect overfished rockfish species. Recreational RCAs may either have (1) boundaries defined by general depth contours or (2) boundaries defined by specific latitude and longitude coordinates intended to approximate particular depth contours. The recreational RCA is closed to recreational fishing for groundfish. Fishing for groundfish with recreational gear is prohibited within the recreational RCA. It is unlawful to take and retain, possess, or land groundfish taken with recreational gear within the recreational RCA. If a vessel fishes in the recreational RCA, it may not be in possession of any species prohibited by the restrictions that apply within the recreational RCA. For example, if a vessel participates in the recreational salmon fishery within the RCA, the vessel cannot be in possession of groundfish while in the RCA. The vessel may, however, on the same trip fish for and retain groundfish shoreward of the RCA on the return trip to port. Throughout the year, boundaries for the recreational RCAs are provided in the text in section IV.D. under each state (Washington, Oregon and California) and may be modified by NMFS inseason. Recreational RCA boundaries that are defined by specific latitude and longitude coordinates are provided below at paragraph (f) of this section.

* * * * *

5. In section IV., under A. General Definitions and Provisions, the introductory text in paragraph (17)(f)(ii)(E) is corrected to read as follows:

* * * * *

(E) The 30-fm (55-m) depth contour around Santa Catalina Island off the State of California is defined by straight lines connecting all of the following points in the order stated:

* * * * *

6. In section IV., under A. General Definitions and Provisions, paragraphs (17)(f)(iii) and (17)(f)(iv) are corrected to read as follows:

* * * * *

(iii) The 40 fm (73 m) depth contour between 46°16′ N. lat. and 42°00′ N. lat. is defined by straight lines connecting all of the following points in the order stated:

(1) 46°16.00′ N. lat., 124°16.10′ W. long.;

(2) 46°15.29′ N. lat., 124°15.60′ W. long.;

(3) 46°11.90′ N. lat., 124°13.59′ W. long.;

(4) 46°06.93′ N. lat., 124°10.15′ W. long.;

(5) 46°05.33′ N. lat., 124°08.30′ W. long.;

(6) 45°58.69′ N. lat., 124°05.60′ W. long.;

(7) 45°57.71′ N. lat., 124°05.82′ W. long.;

(8) 45°53.97′ N. lat., 124°05.04′ W. long.;

(9) 45°49.75′ N. lat., 124°05.14′ W. long.;

(10) 45°47.88′ N. lat., 124°05.16′ W. long.;

(11) 45°47.07′N. lat., 124°04.21′ W. long.;

(12) 45°44.34′N. lat., 124°05.09′ W. long.;

(13) 45°40.64′N. lat., 124°04.90′ W. long.;

(14) 45°33.00′N. lat., 124°04.46′ W. long.;

(15) 45°32.27′N. lat., 124°04.74′ W. long.;

(16) 45°29.26′N. lat., 124°04.22′ W. long.;

(17) 45°19.99′N. lat., 124°04.62′ W. long.;

(18) 45°17.50′N. lat., 124°04.91′ W. long.;

(19) 45°11.29′N. lat., 124°05.19′ W. long.;

(20) 45°05.79′N. lat., 124°05.40′ W. long.;

(21) 45°05.07′N. lat., 124°05.93′ W. long.;

(22) 45°01.70′N. lat., 124°06.53′ W. long.;

(23) 44°58.75′N. lat., 124°07.14′ W. long.;

(24) 44°51.28′N. lat., 124°10.21′ W. long.;

(25) 44°49.49′N. lat., 124°10.89′ W. long.;

(26) 44°44.96′N. lat., 124°14.39′ W. long.;

(27) 44°43.44′N. lat., 124°14.78′ W. long.;

(28) 44°42.27′N. lat., 124°13.81′ W. long.;

(29) 44°41.68′N. lat., 124°15.38′ W. long.;

(30) 44°34.87′N. lat., 124°15.80′ W. long.;

(31) 44°33.74′N. lat., 124°14.43′ W. long.;

(32) 44°27.66′N. lat., 124°16.99′ W. long.;

(33) 44°19.13′N. lat., 124°19.22′ W. long.;

(34) 44°15.35′N. lat., 124°17.37′ W. long.;

(35) 44°14.38′N. lat., 124°17.78′ W. long.;

(36) 44°12.80′N. lat., 124°17.18′ W. long.;

(37) 44°09.23′N. lat., 124°15.96′ W. long.;

(38) 44°08.38′N. lat., 124°16.80′ W. long.;

(39) 44°01.18′N. lat., 124°15.42′ W. long.;

(40) 43°51.60′N. lat., 124°14.68′ W. long.;

(41) 43°42.66′N. lat., 124°15.46′ W. long.;

(42) 43°40.49′N. lat., 124°15.74′ W. long.;

(43) 43°38.77′N. lat., 124°15.64′ W. long.;

(44) 43°34.52′N. lat., 124°16.73′ W. long.;

(45) 43°28.82′N. lat., 124°19.52′ W. long.;

(46) 43°23.91′N. lat., 124°24.28′ W. long.;

(47) 43°17.96′N. lat., 124°28.81′ W. long.;

(48) 43°16.75′N. lat., 124°28.42′ W. long.;

(49) 43°13.98′N. lat., 124°31.99′ W. long.;

(50) 43°13.71′N. lat., 124°33.25′ W. long.;

(51) 43°12.26′N. lat., 124°34.16′ W. long.;

(52) 43°10.96′N. lat., 124°32.34′ W. long.;

(53) 43°05.65′N. lat., 124°31.52′ W. long.;

(54) 42°59.66′N. lat., 124°32.58′ W. long.;

(55) 42°54.97′N. lat., 124°36.99′ W. long.;

(56) 42°53.81′N. lat., 124°38.58′ W. long.;

(57) 42°49.14′N. lat., 124°39.92′ W. long.;

(58) 42°46.47′N. lat., 124°38.65′ W. long.;

(59) 42°45.60′N. lat., 124°39.04′ W. long.;

(60) 42°44.79′N. lat., 124°37.96′ W. long.;

(61) 42°45.00′N. lat., 124°36.39′ W. long.;

(62) 42°44.14′N. lat., 124°35.16′ W. long.;

(63) 42°42.15′N. lat., 124°32.82′ W. long.;

(64) 42°38.82′N. lat., 124°31.09′ W. long.;

(65) 42°35.91′N. lat., 124°31.02′ W. long.;

(66) 42°31.34′N. lat., 124°34.84′ W. long.;

(67) 42°28.13′N. lat., 124°34.83′ W. long.;

(68) 42°26.73′N. lat., 124°35.58′ W. long.;

(69) 42°23.85′N. lat., 124°34.05′ W. long.;

(70) 42°21.68′N. lat., 124°30.64′ W. long.;

(71) 42°19.62′N. lat., 124°29.02′ W. long.;

(72) 42°15.01′N. lat., 124°27.72′ W. long.;

(73) 42°11.38′N. lat., 124°25.62′ W. long.;

(74) 42°04.66′N. lat., 124°24.39′ W. long.; and

(75) 42°00.00′N. lat., 124°23.55′ W. long.

(iv) The 50-fm (91-m) depth contour between the U.S. border with Canada and the Swiftsure Bank is defined by straight lines connecting all of the following points in the order stated:

(1) 48°30.15′ N. lat., 124°56.12′ W. long.;

* * * * *

7. In section IV., under A. General Definitions and Provisions, paragraph (17)(f)(v)(A), line (13), is corrected to read as follows:

* * * * *

(13) 34°02.80′ N. lat., 119°21.40′ W. long.;

* * * * *

8. In section IV., under A. General Definitions and Provisions, paragraph (17)(f)(vi) is revised to read as follows:

* * * * *

(vi) The 75-fm (137-m) depth contour used between the U.S. border with Canada and the U.S. border with Mexico is defined by straight lines connecting all of the following points in the order stated:

* * * * *

(123) 38°00.00′ N. lat., 123°22.19′ W. long.;

(124) 37°57.70′ N. lat., 123°25.98′ W. long.;

(125) 37°56.73′ N. lat., 123°25.22′ W. long.;

(126) 37°55.59′ N. lat., 123°25.62′ W. long.;

(127) 37°52.79′ N. lat., 123°23.85′ W. long.;

(128) 37°49.13′ N. lat., 123°18.83′ W. long.;

(129) 37°46.01′ N. lat., 123°12.28′ W. long.;

(130) 37°36.12′ N. lat., 123°00.33′ W. long.;

(131) 37°03.52′ N. lat., 122°37.57′ W. long.;

(132) 36°59.69′ N. lat., 122°27.32′ W. long.;

(133) 37°01.41′ N. lat., 122°24.41′ W. long.;

(134) 36°58.75′ N. lat., 122°23.81′ W. long.;

(135) 36°59.17′ N. lat., 122°21.44′ W. long.;

(136) 36°57.51′ N. lat., 122°20.69′ W. long.;

(137) 36°51.46′ N. lat., 122°10.01′ W. long.;

(138) 36°48.43′ N. lat., 122°06.47′ W. long.;

(139) 36°48.66′ N. lat., 122°04.99′ W. long.;

(140) 36°47.75′ N. lat., 122°03.33′ W. long.;

(141) 36°51.23′ N. lat., 121°57.79′ W. long.;

(142) 36°49.72′ N. lat., 121°57.87′ W. long.;

(143) 36°48.84′ N. lat., 121°58.68′ W. long.;

(144) 36°47.89′ N. lat., 121°58.53′ W. long.;

(145) 36°48.66′ N. lat., 121°50.49′ W. long.;

(146) 36°45.56′ N. lat., 121°54.11′ W. long.;

(147) 36°45.30′ N. lat., 121°57.62′ W. long.;

(148) 36°38.54′ N. lat., 122°01.13′ W. long.;

(149) 36°35.76′ N. lat., 122°00.87′ W. long.;

(150) 36°32.58′ N. lat., 121°59.12′ W. long.;

(151) 36°32.95′ N. lat., 121°57.62′ W. long.;

(152) 36°31.96′ N. lat., 121°56.27′ W. long.;

(153) 36°31.74′ N. lat., 121°58.24′ W. long.;

(154) 36°30.57′ N. lat., 121°59.66′ W. long.;

(155) 36°27.80′ N. lat., 121°59.30′ W. long.;

(156) 36°26.52′ N. lat., 121°58.09′ W. long.;

(157) 36°23.65′ N. lat., 121°58.94′ W. long.;

(158) 36°20.93′ N. lat., 122°00.28′ W. long.;

(159) 36°18.23′ N. lat., 122°03.10′ W. long.;

(160) 36°14.21′ N. lat., 121°57.73′ W. long.;

(161) 36°14.68′ N. lat., 121°55.43′ W. long.;

(162) 36°10.42′ N. lat., 121°42.90′ W. long.;

(163) 36°02.55′ N. lat., 121°36.35′ W. long.;

(164) 36°01.04′ N. lat., 121°36.47′ W. long.;

(165) 35°58.25′ N. lat., 121°32.88′ W. long.;

(166) 35°39.35′ N. lat., 121°22.63′ W. long.;

(167) 35°24.44′ N. lat., 121°02.23′ W. long.;

(168) 35°10.84′ N. lat., 120°55.90′ W. long.;

(169) 35°04.35′ N. lat., 120°51.62′ W. long.;

(170) 34°55.25′ N. lat., 120°49.36′ W. long.;

(171) 34°47.95′ N. lat., 120°50.76′ W. long.;

(172) 34°39.27′ N. lat., 120°49.16′ W. long.;

(173) 34°31.05′ N. lat., 120°44.71′ W. long.;

(174) 34°27.00′ N. lat., 120°36.54′ W. long.;

(175) 34°22.60′ N. lat., 120°25.41′ W. long.;

(176) 34°25.45′ N. lat., 120°17.41′ W. long.;

(177) 34°22.94′ N. lat., 119°56.40′ W. long.;

(178) 34°18.37′ N. lat., 119°42.01′ W. long.;

(179) 34°11.22′ N. lat., 119°32.47′ W. long.;

(180) 34°09.58′ N. lat., 119°25.94′ W. long.;

(181) 34°03.89′ N. lat., 119°12.47′ W. long.;

(182) 34°03.57′ N. lat., 119°06.72′ W. long.;

(183) 34°04.53′ N. lat., 119°04.90′ W. long.;

(184) 34°02.84′ N. lat., 119°02.37′ W. long.;

(185) 34°01.30′ N. lat., 119°00.26′ W. long.;

(186) 34°00.22′ N. lat., 119°03.20′ W. long.;

(187) 33°59.60′ N. lat., 119°03.16′ W. long.;

(188) 33°59.46′ N. lat., 119°00.88′ W. long.;

(189) 34°00.49′ N. lat., 118°59.08′ W. long.;

(190) 33°59.07′ N. lat., 118°47.34′ W. long.;

(191) 33°58.73′ N. lat., 118°36.45′ W. long.;

(192) 33°55.24′ N. lat., 118°33.42′ W. long.;

(193) 33°53.71′ N. lat., 118°38.01′ W. long.;

(194) 33°51.22′ N. lat., 118°36.17′ W. long.;

(195) 33°49.85′ N. lat., 118°32.31′ W. long.;

(196) 33°49.61′ N. lat., 118°28.07′ W. long.;

(197) 33°49.95′ N. lat., 118°26.38′ W. long.;

(198) 33°50.36′ N. lat., 118°25.84′ W. long.;

(199) 33°49.84′ N. lat., 118°24.78′ W. long.;

(200) 33°47.53′ N. lat., 118°30.12′ W. long.;

(201) 33°44.11′ N. lat., 118°25.25′ W. long.;

(202) 33°41.77′ N. lat., 118°20.32′ W. long.;

(203) 33°38.17′ N. lat., 118°15.70′ W. long.;

(204) 33°37.48′ N. lat., 118°16.73′ W. long.;

(205) 33°36.01′ N. lat., 118°16.55′ W. long.;

(206) 33°33.76′ N. lat., 118°11.37′ W. long.;

(207) 33°33.76′ N. lat., 118°07.94′ W. long.;

(208) 33°35.59′ N. lat., 118°05.05′ W. long.;

(209) 33°33.75′ N. lat., 117°59.82′ W. long.;

(210) 33°35.10′ N. lat., 117°55.68′ W. long.;

(211) 33°34.91′ N. lat., 117°53.76′ W. long.;

(212) 33°30.77′ N. lat., 117°47.56′ W. long.;

(213) 33°27.50′ N. lat., 117°44.87′ W. long.;

(214) 33°16.89′ N. lat., 117°34.37′ W. long.;

(215) 33°06.66′ N. lat., 117°21.59′ W. long.;

(216) 33°03.35′ N. lat., 117°20.92′ W. long.;

(217) 33°00.07′ N. lat., 117°19.02′ W. long.;

(218) 32°55.99′ N. lat., 117°18.60′ W. long.;

(219) 32°54.43′ N. lat., 117°16.93′ W. long.;

(220) 32°52.13′ N. lat., 117°16.55′ W. long.;

(221) 32°52.61′ N. lat., 117°19.50′ W. long.;

(222) 32°46.95′ N. lat., 117°22.81′ W. long.;

(223) 32°45.01′ N. lat., 117°22.07′ W. long.;

(224) 32°43.40′ N. lat., 117°19.80′ W. long.; and

(225) 32°33.74′ N. lat., 117°18.67′ W. long.

* * * * *

9. In section IV., under A. General Definitions and Provisions, paragraph (17)(f)(vii) is revised to read as follows:

* * * * *

(vii) The 100 fm (183 m) depth contour used between the U.S. border with Canada and the U.S. border with Mexico is defined by straight lines connecting all of the following points in the order stated:

* * * * *

(196) 38°00.00′ N. lat., 123°23.08′ W. long.;

(197) 37°55.07′ N. lat., 123°26.81′ W. long.;

(198) 37°50.66′ N. lat., 123°23.06′ W. long.;

(199) 37°45.18′ N. lat., 123°11.88′ W. long.;

(200) 37°36.21′ N. lat., 123°01.20′ W. long.;

(201) 37°15.58′ N. lat., 122°48.36′ W. long.;

(202) 37°03.18′ N. lat., 122°38.15′ W. long.;

(203) 37°00.48′ N. lat., 122°33.93′ W. long.;

(204) 36°58.70′ N. lat., 122°27.22′ W. long.;

(205) 37°00.85′ N. lat., 122°24.70′ W. long.;

(206) 36°58.00′ N. lat., 122°24.14′ W. long.;

(207) 36°58.74′ N. lat., 122°21.51′ W. long.;

(208) 36°56.97′ N. lat., 122°21.32′ W. long.;

(209) 36°51.52′ N. lat., 122°10.68′ W. long.;

(210) 36°48.39′ N. lat., 122°07.60′ W. long.;

(211) 36°47.43′ N. lat., 122°03.22′ W. long.;

(212) 36°50.95′ N. lat., 121°58.03′ W. long.;

(213) 36°49.92′ N. lat., 121°58.01′ W. long.;

(214) 36°48.88′ N. lat., 121°58.90′ W. long.;

(215) 36°47.70′ N. lat., 121°58.75′ W. long.;

(216) 36°48.37′ N. lat., 121°51.14′ W. long.;

(217) 36°45.74′ N. lat., 121°54.17′ W. long.;

(218) 36°45.51′ N. lat., 121°57.72′ W. long.;

(219) 36°38.84′ N. lat., 122°01.32′ W. long.;

(220) 36°35.62′ N. lat., 122°00.98′ W. long.;

(221) 36°32.46′ N. lat., 121°59.15′ W. long.;

(222) 36°32.79′ N. lat., 121°57.67′ W. long.;

(223) 36°31.98′ N. lat., 121°56.55′ W. long.;

(224) 36°31.79′ N. lat., 121°58.40′ W. long.;

(225) 36°30.73′ N. lat., 121°59.70′ W. long.;

(226) 36°30.31′ N. lat., 122°00.22′ W. long.;

(227) 36°29.35′ N. lat., 122°00.36′ W. long.;

(228) 36°27.66′ N. lat., 121°59.80′ W. long.;

(229) 36°26.22′ N. lat., 121°58.35′ W. long.;

(230) 36°21.20′ N. lat., 122°00.72′ W. long.;

(231) 36°20.47′ N. lat., 122°02.92′ W. long.;

(232) 36°18.46′ N. lat., 122°04.51′ W. long.;

(233) 36°15.92′ N. lat., 122°01.33′ W. long.;

(234) 36°13.76′ N. lat., 121°57.27′ W. long.;

(235) 36°14.43′ N. lat., 121°55.43′ W. long.;

(236) 36°10.24′ N. lat., 121°43.08′ W. long.;

(237) 36°07.66′ N. lat., 121°40.91′ W. long.;

(238) 36°02.49′ N. lat., 121°36.51′ W. long.;

(239) 36°01.07′ N. lat., 121°36.82′ W. long.;

(240) 35°57.84′ N. lat., 121°33.10′ W. long.;

(241) 35°50.36′ N. lat., 121°29.32′ W. long.;

(242) 35°39.03′ N. lat., 121°22.86′ W. long.;

(243) 35°24.30′ N. lat., 121°02.56′ W. long.;

(244) 35°16.53′ N. lat., 121°00.39′ W. long.;

(245) 35°04.82′ N. lat., 120°53.96′ W. long.;

(246) 34°52.51′ N. lat., 120°51.62′ W. long.;

(247) 34°43.36′ N. lat., 120°52.12′ W. long.;

(248) 34°37.64′ N. lat., 120°49.99′ W. long.;

(249) 34°30.80′ N. lat., 120°45.02′ W. long.;

(250) 34°27.00′ N. lat., 120°39.00′ W. long.;

(251) 34°21.90′ N. lat., 120°25.25′ W. long.;

(252) 34°24.86′ N. lat., 120°16.81′ W. long.;

(253) 34°22.80′ N. lat., 119°57.06′ W. long.;

(254) 34°18.59′ N. lat., 119°44.84′ W. long.;

(255) 34°15.04′ N. lat., 119°40.34′ W. long.;

(256) 34°14.40′ N. lat., 119°45.39′ W. long.;

(257) 34°12.32′ N. lat., 119°42.41′ W. long.;

(258) 34°09.71′ N. lat., 119°28.85′ W. long.;

(259) 34°04.70′ N. lat., 119°15.38′ W. long.;

(260) 34°03.33′ N. lat., 119°12.93′ W. long.;

(261) 34°02.72′ N. lat., 119°07.01′ W. long.;

(262) 34°03.90′ N. lat., 119°04.64′ W. long.;

(263) 34°01.80′ N. lat., 119°03.23′ W. long.;

(264) 33°59.32′ N. lat., 119°03.50′ W. long.;

(265) 33°59.00′ N. lat., 118°59.55′ W. long.;

(266) 33°59.51′ N. lat., 118°57.25′ W. long.;

(267) 33°58.82′ N. lat., 118°52.47′ W. long.;

(268) 33°58.54′ N. lat., 118°41.86′ W. long.;

(269) 33°55.07′ N. lat., 118°34.25′ W. long.;

(270) 33°54.28′ N. lat., 118°38.68′ W. long.;

(271) 33°51.00′ N. lat., 118°36.66′ W. long.;

(272) 33°39.77′ N. lat., 118°18.41′ W. long.;

(273) 33°35.50′ N. lat., 118°16.85′ W. long.;

(274) 33°32.68′ N. lat., 118°09.82′ W. long.;

(275) 33°34.09′ N. lat., 117°54.06′ W. long.;

(276) 33°31.60′ N. lat., 117°49.28′ W. long.;

(277) 33°16.07′ N. lat., 117°34.74′ W. long.;

(278) 33°07.06′ N. lat., 117°22.71′ W. long.;

(279) 32°59.28′ N. lat., 117°19.69′ W. long.;

(280) 32°55.36′ N. lat., 117°19.54′ W. long.;

(281) 32°53.35′ N. lat., 117°17.05′ W. long.;

(282) 32°53.34′ N. lat., 117°19.13′ W. long.;

(283) 32°46.39′ N. lat., 117°23.45′ W. long.;

(284) 32°42.79′ N. lat., 117°21.16′ W. long.; and

(285) 32°34.22′ N. lat., 117°21.20′ W. long.

* * * * *

10. In section IV., under B. Limited Entry Fishery, footnote 4 in Table 4 (South) is corrected to read as follows:

* * * * *

BILLING CODE 3510-22-S

BILLING CODE 3510-22-C

11. In section IV., under D. Recreational Fishery, paragraph (3)(b)(i)(A) is corrected to read as follows:

* * * * *

(A) Cowcod Conservation Areas. Coordinates defining the boundaries of the Cowcod Conservation Areas (CCAs) are described in Federal regulations at 50 CFR 660.304(c). Recreational fishing for all groundfish is prohibited within the CCAs, except that fishing for sanddabs is permitted subject to the provisions in paragraph IV.D.(3)(b)(v). However, recreational fishing for the following species is permitted shoreward of the 20 fm (37 m) depth contour within the CCAs from March 1 through December 31, subject to the bag limits in this section: minor nearshore rockfish, cabezon, kelp greenling, lingcod, California scorpionfish, and sanddabs. (Note: California State regulations also permit recreational fishing for all greenlings of the genus Hexogrammas shoreward of the 20-fm (37-m) depth contour in the CCAs.)

* * * * *

12. In section IV., under D. Recreational Fishery, paragraph (3)(b)(i)(B) is revised and paragraph (3)(b)(i)(B)(1) is corrected to read as follows:

* * * * *

(B) Recreational Rockfish Conservation Areas. The recreational Rockfish Conservation Areas, or recreational RCAs, are areas that are closed to recreational fishing for groundfish. See also paragraph IV.A.(17)(e).

(1) Between 40°10′ N. lat. and 34°27′ N. lat., recreational fishing for all groundfish, except sanddabs, is prohibited seaward of a boundary line approximating the 30-fm (55-m) depth contour along the mainland coast and along islands and offshore seamounts during January 1 through February 29 and September 1 through December 31; is prohibited seaward of the 20-fm (37-m) depth contour during May 1 through August 31; and is closed entirely during March 1 through April 30 (i.e., prohibited seaward of the shoreline). Coordinates for the boundary line approximating the 30-fm (55-m) depth contour are listed in section IV.A.(17)(f). Under State law, recreational fishing for rockfish, lingcod, and associated species limited to cabezon, greenlings of the genus Hexagrammos, California scorpionfish, California sheephead, and ocean whitefish are prohibited between the shoreline and the 10-fm (18-m) depth contour around the Farallon Islands. For a definition of the Farallon Islands, see paragraph IV.A.(17)(f). Recreational fishing for certain groundfish species is also prohibited in waters of the Cordell Banks, located at 38°02′ N. lat. and 123°25′ W. long., and within a 5 nautical mile radius around this point. This portion of the Cordell Banks is closed to fishing for rockfish, lingcod, cabezon, kelp greenlings and California scorpionfish. (Note: California State regulations also prohibit the retention of other greenlings of the genus Hexagrammos, California sheephead and ocean whitefish.) For a definition of Cordell Banks, see paragraph IV.A.(17)(f).

* * * * *

13. In section IV., under D. Recreational Fishery, paragraph (3)(a)(i)(B) is revised to read as follows:

* * * * *

(B) Bag limits, boat limits, hook limits. North of 40°10′ N. lat., in times and areas when the recreational season for the RCG Complex is open, there is a limit of two hooks and one line when fishing for rockfish.

(1) From January 1 through April 30, the bag limit is 10 rockfish per day, of which no more than two may be bocaccio. The following daily bag limits also apply: no more than 10 cabezon per day and no more than 10 kelp greenling and 10 rock greenling per day. Multi-day limits are authorized by a valid permit issued by California and must not exceed the daily limit multiplied by the number of days in the fishing trip.

(2) From May 1 through December 31, the bag limit is 10-RCG Complex fish per day (not including canary rockfish, yelloweye rockfish and cowcod, which are prohibited), of which up to 10 may be rockfish, no more than two of which may be bocaccio. Also within the 10-RCG Complex fish per day limit, no more than two fish per day may be greenling (kelp and/or other greenlings) and no more than 3 fish per day may be cabezon. Multi-day limits are authorized by a valid permit issued by California and must not exceed the daily limit multiplied by the number of days in the fishing trip.

* * * * *

14. In section IV., under D. Recreational Fishery, paragraph (3)(a)(ii) is revised to read as follows:

* * * * *

(ii) Lingcod.

(A) Seasons. North of 40°10′ N. lat., recreational fishing for lingcod is open from January 1 through October 31.

(B) Bag limits, boat limits, hook limits. North of 40°10′ N. lat., in times and areas when the recreational season for lingcod is open, there is a limit of two hooks and one line when fishing for lingcod. The bag limit is 2 lingcod per day from January 1 through March 31 and 1 lingcod per day from April 1 through October 31. Multi-day limits are authorized by a valid permit issued by California and must not exceed the daily limit multiplied by the number of days in the fishing trip.

(C) Size limits. Lingcod may be no smaller than 24 in (61 cm) total length from January 1 through March 31 and no smaller than 30 in (77 cm) total length from April 1 through October 31.

(D) Dressing/Filleting. Lingcod fillets may be no smaller than 16 in (41 cm) in length from January 1 through March 31 and no smaller than 21 in (54 cm) from April 1 through October 31 in length.

* * * * *

15. In section IV., under D. Recreational Fishery, paragraph (3)(b)(ii)(B) is revised to read as follows:

* * * * *

(B) Bag limits, boat limits, hook limits. South of 40°10′ N. lat., in times and areas when the recreational season for the RCG Complex is open, there is a limit of two hooks and one line when fishing for rockfish.

(1) From January 1 through April 30 when the season for the RCG complex is open, the bag limit is 10-RCG Complex fish per day (not including canary rockfish, yelloweye rockfish and cowcod, which are prohibited), of which up to 10 may be rockfish, no more than 1 of which may be bocaccio and no more than 2 of which may be shallow nearshore rockfish. (Note: The shallow nearshore rockfish group off California are composed of kelp, grass, black-and-yellow, China, and gopher rockfishes.) Also within the 10-RCG Complex fish per day limit, no more than 2 fish per day may be greenling (kelp and/or other greenlings) and no more than 3 fish per day may be cabezon. Lingcod, California scorpionfish and sanddabs taken in recreational fisheries off California do not count toward the 10 RCG Complex fish per day bag limit. Multi-day limits are authorized by a valid permit issued by California and must not exceed the daily limit multiplied by the number of days in the fishing trip.

(2) From May 1 through December 31, the bag limit is 10-RCG Complex fish per day (not including canary rockfish, yelloweye rockfish and cowcod, which are prohibited), of which up to 10 may be rockfish, no more than 1 of which may be bocaccio. Also within the 10-RCG Complex fish per day limit, no more than 2 fish per day may be greenling (kelp and/or other greenlings) and no more than 3 fish per day may be cabezon. Lingcod, California scorpionfish and sanddabs taken in recreational fisheries off California do not count toward the 10 RCG Complex fish per day bag limit. Multi-day limits are authorized by a valid permit issued by California and must not exceed the daily limit multiplied by the number of days in the fishing trip.

* * * * *

16. In section IV., under D. Recreational Fishery, paragraph (3)(b)(iv) is corrected to read as follows:

* * * * *

(iv) Lingcod.

(A) Seasons. Between 40°10′ N. lat. and 34°27′ N. lat., recreational fishing for lingcod is open from January 1 through February 29 and from May 1 through October 31 (i.e., it's closed from March 1 through April 30 and from November 1 through December 31). South of 34°27′ N. lat., recreational fishing for lingcod is open from March 1 through October 31 (i.e., it's closed from January 1 through February 29 and from November 1 through December 31). When recreational fishing for lingcod is open, it is permitted only shoreward of the recreational RCA, as described in paragraph IV.D.(3)(b)(i)(B) above.

(B) Bag limits, boat limits, hook limits. South of 40°10′ N. lat., in times and areas when the recreational season for lingcod is open, there is a limit of two hooks and one line when fishing for lingcod. The bag limit is two lingcod per day from January 1 through March 31 and one lingcod per day from April 1 through October 31. Lingcod do not count against the 10-RCG Complex fish per day limit. Multi-day limits are authorized by a valid permit issued by California and must not exceed the daily limit multiplied by the number of days in the fishing trip.

(C) Size limits. In times and areas when the recreational season for lingcod is open, lingcod may be no smaller than 24 in (61 cm) total length from January 1 through March 31 and no smaller than 30 in (77 cm) total length from April 1 through October 31.

(D) Dressing/Filleting. In times and areas when the recreational season for lingcod is open, lingcod fillets may be no smaller than 16 in (41 cm) in length from January 1 through March 31 and no smaller than 21 in (54 cm) from April 1 through October 31 in length.

* * * * *

Classification

These actions are authorized by the Pacific Coast groundfish FMP and its implementing regulations, and are based on the most recent data available. The aggregate data upon which these actions are based are available for public inspection at the Office of the Administrator, Northwest Region, NMFS, (see ADDRESSES) during business hours.

The Assistant Administrator for Fisheries, NOAA, finds good cause to waive the requirement to provide prior notice and opportunity for public comment on this action pursuant to 5 U.S.C. 553(b)(3)(B), because providing prior notice and opportunity for comment would be impracticable, unnecessary and contrary to the public interest. The data upon which these recommendations were based was provided to the Pacific Council and the Pacific Council made its recommendations at its March 7-12, 2004, meeting in Tacoma, WA. There was not sufficient time after that meeting to draft this notice and undergo proposed and final rulemaking before these actions need to be in effect as explained below. For the actions to be implemented in this notice, prior notice and opportunity for comment would be impracticable because affording prior notice and opportunity for public comment would take too long, thus impeding the Agency's function of managing fisheries to approach without exceeding the OYs for federally managed species. The adjustments to management measures in this document include changes to California's recreational fishery and changes to the commercial trawl RCA off California. Changes to California's recreational fishery management measures must be implemented in a timely manner to protect overfished groundfish species, such as lingcod and canary rockfish, and to keep the harvest of other groundfish species, such as minor nearshore rockfish, within the harvest levels projected to be taken off the State of California in 2004. Changes to California's recreational RCG complex bag limits must be in effect by May 1, 2004, to keep harvest within the levels projected and to conform Federal and State recreational regulations. Changes to California's commercial trawl RCA are intended to reduce the take of overfished groundfish species by closing Cordell Banks, an area of high catch of canary rockfish and other overfished species, to commercial fishing in an effort to keep groundfish take within the OYs set for the year. Delaying these changes to management measures could lead to early closures of the fishery. This would contradict one of the Pacific Coast Groundfish FMP objectives of providing for year-round harvest opportunities or extending fishing opportunities as long as practicable during the fishing year.

For these reasons, good cause also exists to waive the 30 day delay in effectiveness requirement under 5 U.S.C. 553 (d)(3).

These actions are taken under the authority of 50 CFR 660.323(b)(1) and are exempt from review under Executive Order 12866.

Authority: 16 U.S.C. 1801 et seq.

Dated: April 22, 2004.
Alan D. Risenhoover,
Acting Director, Office of Sustainable Fisheries, National Marine Fisheries Service.

[FR Doc. 04-9649 Filed 4-28-04; 8:45 am]

BILLING CODE 3510-22-S